ARCHITECTURAL AND TRANSPORTATION BARRIERS COMPLIANCE BOARD

Notice of a Meeting

AGENCY: Architectural and Transportation Barriers Compliance Board.

ACTION: Notice of meeting.

SUMMARY: The Architectural and Transportation Barriers Compliance Board (Access Board) has scheduled its regular business meetings to take place in Washington, DC from Tuesday through Wednesday, March 14-15, 2006, at the times and location noted below.

DATES: The schedule of events is as follows:

Tuesday, January 10, 2006

9-10:30 a.m. Planning and Budget Committee

10:30 a.m.-12:30 p.m. Technical Programs Committee

1:30-4 p.m. Executive Committee

4-5 p.m. Committee of the Whole on Rulemaking Plan (Closed Session)

Wednesday, January 11, 2006

9 a.m.-Noon Ad Hoc Committee on Passenger Vessels (Closed Session) 1:30-3 p.m. Board Meeting

ADDRESSES: All meetings will be held at the Embassy Suites Hotel-Convention Center, 900 10th Street, NW., Washington, DC 20001.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the January 11, 2006 Board Meeting Minutes

• Committee of the Whole on Rulemaking Report

• Ad Hoc Committee on Passenger Vessels Report

• Technical Programs Committee Report

• Planning and Budget Committee Report

• Executive Committee Report

• Election of Officers

All meetings are accessible to persons with disabilities. An assistive listening system will be available at the Board meetings. Members of the general public who require sign language interpreters must contact the Access Board by Wednesday, March 1, 2006. Persons attending Board meetings are requested to refrain from using perfume, cologne, and other fragrances for the comfort of other participants.

Lawrence W. Roffee,
Executive Director.

[FR Doc. E6-2925 Filed 3-1-06; 8:45 am]

BILLING CODE 8150-01-P